DEPARTMENT OF ENERGY

Federal Energy Regulatory Commission

[Docket Nos. ER02-2595-000, EL03-34-000, ER03-1277-000, ER03-2458-000, ER04-106-000, ER04-446-000, ER04-454-000 (Not Consolidated), EL04-43-000, EL04-46-000, ER04-364-000, ER04-375-000, ER04-456-000, ER04-571-000]

Midwest Independent Transmission System Operator, Inc., Tenaska Power Services Co. v. Midwest Independent Transmission System Operator, Inc., Cargill Power Markets, LLC v. Midwest Independent Transmission System Operator, Inc., American Electric Power Service Corporation, Commonwealth Edison Company, Commonwealth Edison Company of Indiana, Inc., Midwest Independent Transmission System Operator, Inc., PJM Interconnection, L.L.C., Ameren Services Company, Midwest Independent Transmission System Operator, Inc., Ameren Services Company; Notice of Commission Staff Participation at Technical Conference

March 5, 2004

Representatives of the Commission's staff will attend a technical conference pertaining to the Midwest Independent Transmission System Operator, Inc.'s (Midwest ISO) anticipated Energy Markets Tariff Filing. The technical conference will be held on March 10, 2004, from 10 a.m. to 6 p.m., and on March 11, 2004, from 8 a.m. to noon. The conference will take place at the Lakeside Corporate Center (directly across from the Midwest ISO's headquarters), 630 West Carmel Drive, Carmel, Indiana. Further details of the conference are available at http://www.midwestiso.org/meetings.shtml.

The purpose of the technical conference is to discuss the Midwest ISO's anticipated Energy Markets Tariff Filing, expected to be filed with the Commission on March 31, 2004. The technical conference is open to the public. During the course of the meeting, it is possible that discussions may overlap with issues pending in the above-captioned dockets.

For more information about the technical conference, contact Patrick Clarey, Office of Markets, Tariffs and Rates, Federal Energy Regulatory Commission, at (317) 249-5937 or patrick.clarey@ferc.gov, or Christopher Miller, Office of Markets, Tariffs and Rates, Federal Energy Regulatory Commission at (317) 249-5936 or christopher.miller@ferc.gov.

Magalie R. Salas,
Secretary.

[FR Doc. E4-539 Filed 3-10-04; 8:45 am]

BILLING CODE 6717-01-P